DEPARTMENT OF LABOR

Employment and Training Administration

[TA-W-62,029]

Foxcroft Sportswear, Currently Known as Sara Campbell, LTD, Fall River, MA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 19, 2007, applicable to workers of Foxcroft Sportswear, Fall River, Massachusetts. The notice was published in the Federal Register on December 10, 2007 (72 FR 69710).

At the request of the State agency, the Department reviewed the certification for workers of the subject firm. The workers are engaged in the production of women's apparel.

New information shows that in August 2007, Foxcroft Sportswear was purchased by Sara Campbell, Ltd and is currently known as Sara Campbell, Ltd.

Accordingly, the certification is being amended to include workers at Foxcroft Sportswear, Fall River, Massachusetts, whose wages are reported under the Unemployment Insurance (UI) tax account for the successor firm, Sara Campbell, Ltd.

The amended notice applicable to TA-W-62,029 is hereby issued as follows:

All workers of Foxcroft Sportswear, currently known as Sara Campbell, Ltd, Fall River, Massachusetts, who became totally or partially separated from employment on or after August 21, 2006 through November 19, 2009, are eligible to apply for adjustment assistance under Section 223 of the Trade Act of 1974 and are also eligible to apply for alternative trade adjustment assistance under Section 246 of the Trade Act of 1974.

Signed at Washington, DC, this 14th day of January 2009.
Elliott S. Kushner,
Certifying Officer, Division of Trade Adjustment Assistance.

[FR Doc. E9-2133 Filed 1-30-09; 8:45 am]

BILLING CODE 4510-FN-P